ENVIRONMENTAL PROTECTION AGENCY

[CERCLA-04-2022-2508 et. al; FRL-10896-01-R4]

Bennett Landfill Fire Superfund Site, Chester, South Carolina; Proposed Settlements

AGENCY: Environmental Protection Agency (EPA).

ACTION: Notice of proposed settlements.

SUMMARY: Under the Comprehensive Environmental Response, Compensation and Liability Act (CERCLA), the United States Environmental Protection Agency is proposing to enter into forty-nine Individual settlements with fifty-three parties concerning the Bennett Landfill Fire Site located in Chester, South Carolina. The proposed settlements address recovery of CERCLA costs for a cleanup that was performed at the Site and costs incurred by EPA.

The individual proposed settlements are as follows: Rock Hill School District 3, CERCLA-04-2023-2506(b); Carlisle Finishing LLC, CERCLA-04-2022-2506(b); Dominion Energy South Carolina, Inc. f/k/a South Carolina Electric & Gas Company, CERCLA-04-2022-2512(b); Signet Mills, Inc. f/k/a Green Textile Associates, Inc., CERCLA-04-2022-2513(b); AstenJohnson, Inc., CERCLA-04-2022-2508; Hexion Inc., CERCLA-04-2022-2515(b); Target Contractors, LLC, CERCLA-04-2022-2517(b); Inman-Campobello Water District, CERCLA-04-2022-2523(b); Laurens County School District #56, CERCLA-04-2022-2520(b); McLeod Medical Center—Dillon, CERCLA-04-2022-2519(b); Michelin North America, Inc., CERCLA-04-2022-2521(b); Anderson County, South Carolina, CERCLA-04-2022-2511; Aiken County, South Carolina, CERCLA-04-2022-2510; Anderson County School District 5, CERCLA-04-2023-2500(b); Boulevard Baptist Church of Anderson, Inc., CERCLA-04-2023-2501(b); Owens Corning, CERCLA-04-2023-2502(b); School District of Pickens County, CERCLA-04-2023-2503(b); Midland Industries, LLC f/k/a Midland Capital Corp. CERCLA-04-2022-2522(b); Milliken & Company, CERCLA-04-2022-2524(b); Mohawk Industries, Inc., CERCLA-04-2022-2525(b); Richloom Fabrics Group, Inc., CERCLA-042023-2504(b); South Carolina School for the Deaf and the Blind, CERCLA-04-2023-2508(b); Self Regional Healthcare, CERCLA-04-2023-2509(b); SERRUS Real Estate Fund II, LLC and SERRUS Capital Partners, Inc., CERCLA-04-2023-2510(b); Snyder Investments, Inc. and Snyder Electric Company, Inc., CERCLA-04-2023-2515(b); South Carolina Regional Housing Authority No. 1, CERCLA-04-2023-2516(b); Spartanburg County, CERCLA-04-2023-2517(b); Spartanburg District Five Schools, CERCLA-04-2023-2519(b); The Timken Company, CERCLA-04-2023-2518(b); Tri-County Technical College, CERCLA-04-2023-2511(b); Trinity United Methodist Church of Enoree, SC, CERCLA-04-2023-2512(b); Wells Fargo Bank, N.A., CERCLA-04-2023-2513(b); Wofford College, CERCLA-04-2023-2514(b); BASF Corporation, CERCLA-04-2022-2507; Cherokee Avenue Baptist Church, CERCLA-04-2022-2507(b); W.R. Floyd Services, Inc., d/b/a J. F. Floyd Mortuary, CERCLA-04-2022-2518(b); Greenville-Spartanburg Airport District, CERCLA-04-2022-2514(b); City of York, South Carolina, CERCLA-04-2022-2510(b); Converse University f/k/a Converse College, CERCLA-04-2022-2516(b); Royal Adhesives and Sealants, LLC, and Simpsonville Properties LLC, CERCLA-04-2023-2507(b); Spartanburg County School District Three, CERCLA-04-2023-2520(b); City of Landrum, South Carolina, CERCLA-04-2022-2508(b); Cooper Standard Automotive Inc., CERCLA-04-2022-2511(b); Brixmor Property Group Inc., ERP Hillcrest, LLC, and Excel Realty Partners LP, CERCLA-04-2022-2509(b); School District of Newberry County, CERCLA-04-2023-2522(b); Mecklenburg County Alcoholic Beverage Control Board CERCLA-04-2022-2509; Inman Mills, CERCLA-04-2023-2528(b); Price Construction, Inc., CERCLA-04-2023-2525(b); Winthrop University, United States General Services Administration and United States Postal Service, CERCLA-04-2023-2527(b).

DATES: The Agency will consider public comments on the proposed settlements until June 26, 2023. The Agency will consider all comments received and may modify or withdraw its consent to the proposed settlements if comments received disclose facts or considerations which indicate that the proposed settlement is inappropriate, improper, or inadequate.

ADDRESSES: Copies of the proposed settlements are available from the Agency by contacting Ms. Paula V. Painter, Program Analyst, using the contact information provided in this notice. Comments may also be submitted by referencing the Site's name through one of the following methods:

Internet: https://www.epa.gov/aboutepa/about-epa-region-4-southeast#r4-public-notices.

Email: Painter.Paula@epa.gov.

FOR FURTHER INFORMATION CONTACT: Paula V. Painter at 404/562-8887.

Maurice Horsey,
Branch Manager, Enforcement Branch, Superfund & Emergency Management Division.

[FR Doc. 2023-11348 Filed 5-25-23; 8:45 am]

BILLING CODE 6560-50-P